NATIONAL AERONAUTICS AND SPACE ADMINISTRATION

[Notice 02-090]

National Environmental Policy Act; Mars Exploration Rover-2003 Project

AGENCY: National Aeronautics and Space Administration (NASA).

ACTION: Notice of availability of draft environmental impact statement (DEIS) for implementation of the Mars Exploration Rover (MER)-2003 Project.

SUMMARY: Pursuant to the National Environmental Policy Act of 1969 (NEPA), as amended (42 U.S.C. 4321 et seq.), the Council on Environmental Quality Regulations for Implementing the Procedural Provisions of NEPA (40 CFR parts 1500-1508), and NASA policy and procedures (14 CFR part 1216, subpart 1216.3), NASA has prepared and issued a DEIS for the MER-2003 project. The DEIS addresses the potential environmental impacts associated with continuing the preparations for and implementing the MER-2003 project. The purpose of this proposal is to perform exploration of the surface of Mars.

The project is planned to consist of two missions, each involving identical rover spacecraft. NASA proposes to launch the first mission from Cape Canaveral Air Force Station (CCAFS), Florida, in May or June 2003, on a Delta II 7925, and the second mission from CCAFS in June or July 2003, on a Delta II 7925 Heavy. Each rover would include two small radioactive sources for instrument calibration and would use up to eleven radioisotope heater units (RHU) for thermal control.

DATES: Interested parties are invited to submit comments on environmental concerns on or before September 9, 2002, or 45 days from the date of publication in the Federal Register of the U.S. Environmental Protection Agency's notice of availability of the MER-2003 project DEIS, whichever is later.

ADDRESSES: Comments submitted via first class, registered, or certified mail should be addressed to David Lavery, Office of Space Science, Mail Code SM, NASA Headquarters, Washington, DC 20546-0001. Comments submitted via express mail, a commercial deliverer, or courier service should be addressed to David Lavery, Office of Space Science, Mail Code SM, Attn: Receiving & Inspection (Rear of Building), NASA Headquarters, 300 E Street SW., Washington, DC 20024-3210. While hard copy comments are preferred, comments by electronic mail may be sent to marsnepa@hq.nasa.gov. The DEIS may be reviewed at the following locations:

(a) NASA Headquarters, Library, Room 1J20, 300 E Street, SW., Washington, DC 20546.

(b) Spaceport U.S.A., Room 2001, John F. Kennedy Space Center, FL 32899. Please call Lisa Fowler at 321-867-2201 so that arrangements can be made.

(c) Jet Propulsion Laboratory, Visitors Lobby, Building 249, 4800

Oak Grove Drive, Pasadena, CA 91109 (818-354-5179).

In addition, the DEIS may be examined at the following NASA locations by contacting the pertinent Freedom of Information Act Office:

(d) NASA, Ames Research Center, Moffett Field, CA 94035 (650-604-1181).

(e) NASA, Dryden Flight Research Center, P.O. Box 273, Edwards, CA 93523 (661-276-2704).

(f) NASA, Glenn Research Center at Lewis Field, 21000 Brookpark Road, Cleveland, OH 44135 (216-433-2755).

(g) NASA, Goddard Space Flight Center, Greenbelt Road, Greenbelt, MD 20771 (301-286-0730).

(h) NASA, Johnson Space Center, Houston, TX 77058 (281-483-8612).

(i) NASA, Langley Research Center, Hampton, VA 23681 (757-864-2497).

(j) NASA, Marshall Space Flight Center, Huntsville, AL 35812 (256-544-2030).

(k) NASA, Stennis Space Center, MS 39529 (228-688-2164).

Limited hard copies of the DEIS are available, on a first request basis, by contacting David Lavery at the address or telephone number indicated herein. The DEIS also is available in Acrobat® format at http://spacescience.nasa.gov/admin/pubs/mereis/index.htm.

FOR FURTHER INFORMATION CONTACT: David Lavery, 202-358-4800; electronic mail (marsnepa@hq.nasa.gov).

SUPPLEMENTARY INFORMATION: The MER-2003 project is part of a series of missions to characterize Mars' atmosphere, geologic history, climate, and the relationship to Earth's climate change process. The two missions of the MER-2003 project aim to determine what resources Mars provides for future exploration, and to search for evidence of past and present life. These two missions would continue the intense study of local areas of the surface via identical rover spacecraft. The two rovers would separately explore two different locations on Mars. Operation of the rovers and their science instruments would also benefit the planning and design of future missions by demonstrating the capabilities for long-range travel by mobile science platforms to validate long-lived, long-distance rover technologies; demonstrate complex science operations through the simultaneous use of multiple mobile laboratories; and validate the standards, protocols, and capabilities of the international Mars communications infrastructure.

The proposed action consists of continuing preparations for and implementing the MER-2003 project. The first mission (MER-A) would be launched on a Delta II 7925 from CCAFS in May or June 2003. The second mission (MER-B) would be launched on a Delta II 7925 Heavy from CCAFS in June or July 2003. The 2003 launch opportunity represents the best opportunity for a surface mission to Mars in the next twenty years. Programmatic issues (e.g., changes in NASA priorities or unforeseen circumstances) could necessitate modification to the mission objectives and timing. Such modifications could result in the need to launch one mission in 2003, and a second mission at a later launch opportunity or not at all. Accordingly, the only alternative that was evaluated is the No Action alternative.

For the MER-2003 missions, the potentially affected environment for normal launches includes the area at and in the vicinity of the launch site, CCAFS in Florida. The environmental impacts of normal launches of the two missions for the proposed action would be associated principally with the exhaust emissions from each of the Delta II launch vehicles. These effects would include short-term impacts on air quality within the exhaust cloud and near the launch pads, and the potential for acidic deposition on the vegetation and surface water bodies at and near the launch complex, particularly if rain occurs shortly after launch.

A concern associated with launch of the two MER-2003 spacecraft involves potential launch accidents that could result in the release of some of the radioactive material on board the rover. Each rover would employ two instruments which use small quantities of cobalt-57 (that would not exceed 350 millicuries) and curium-244 (that would not exceed 50 millicuries) as instrument sources. Each rover would have up to eleven RHUs that use plutonium dioxide to provide heat to the electronics and batteries on board the rover. The radioisotope inventory of up to eleven RHUs would total approximately 365 curies of plutonium.

The U.S. Department of Energy (DOE), in cooperation with NASA, has performed a risk assessment of potential accidents for the MER-2003 project. This assessment used a methodology refined through applications to the Galileo, Mars Pathfinder, and Cassini, missions and incorporates results of safety tests on the RHUs and an evaluation of the January 17, 1997, Delta II accident at CCAFS. DOE's risk assessment for this project indicates that in the event of a launch accident the expected impacts of released radioactive material at and in the vicinity of the launch area, and on a global basis, would be small.

Dated: July 18, 2002.
Olga M. Dominguez,
Director, Environmental Management Division.

[FR Doc. 02-18734 Filed 7-23-02; 8:45 am]

BILLING CODE 7510-01-P